DEPARTMENT OF AGRICULTURE

Agricultural Marketing Service

[AMS-SC-19-0020; SC19-990-1]

2018 Farm Bill Implementation Listening Session on Hemp

AGENCY: Agricultural Marketing Service, USDA.

ACTION: Notice.

SUMMARY: In preparing to implement the Agriculture Improvement Act of 2018 (commonly referred to as the 2018 Farm Bill), the Agricultural Marketing Service (AMS) will host a listening session for initial public input about a new program to regulate hemp production. The listening session will provide interested parties with an opportunity to assist the Agency's future rulemaking efforts by sharing their views on how the United States Department of Agriculture (USDA) can partner with agriculture agencies representing states, territories, and Indian tribes to implement a nationwide program for overseeing the production of industrial hemp.

DATES: Listening session: The listening session will be on March 13, 2019, and will begin at 12:00 p.m. and conclude by 3:00 p.m.

Registration: You must register by March 11, 2019, to speak during the listening session and to provide oral comments during the listening session. Register in advance for this webinar: https://zoom.us/webinar/register/WN_L2G9K7cXTkayQ2O1_0AP0g. After registering, you will receive a confirmation email containing information about joining the webinar.

Comments: For those presenting comments at the online listening session, a written copy of your comments is due by March 11, 2019. You may use farmbill.hemp@usda.gov to submit your written comments via email. AMS will make the agenda for the session available on the website by March 11, 2019.

FOR FURTHER INFORMATION CONTACT: Andrew Hatch; phone: (202) 720-6862 or email: andrew.hatch@usda.gov. Persons with disabilities who require alternative means for communication (Braille, large print, audio tape, etc.) should contact the USDA Target Center at (202) 720-2600 (voice and TDD).

SUPPLEMENTARY INFORMATION: On December 20, 2018, the 2018 Farm Bill (Pub. L. 115-334) was signed into law (see https://www.congress.gov/bill/115th-congress/house-bill/2/text). The Secretary of Agriculture and the respective USDA agencies, including AMS, are working to implement the provisions of the 2018 Farm Bill as expeditiously as possible to meet the needs of producers and other stakeholders. To allow for public input and ensure transparency, it is important to hear from stakeholders regarding their priorities, concerns, and requests.

The purpose of the listening session is for AMS to hear from the public; this is not a discussion with AMS officials or a question-and-answer session. The purpose is for AMS to receive public input that the agency can factor into discretionary decisions that need to be made to implement the specific provision of the 2018 Farm Bill.

The listening session will begin with brief opening remarks from AMS. Individual speakers providing oral comments will be limited to 3-5 minutes each, depending on the number of people who register to speak. As noted above, we request that speakers providing oral comments also submit a written copy of their comments prior to the session. All stakeholders and interested members of the public are welcome to register to provide oral comments.

Instructions for Participating in the Listening Session: Space for participation during the online listening session is limited to the first 1,000 registrants. All persons wishing to participate must submit their comment via email to farmbill.hemp@usda.gov by March 11, 2019. In addition to your comment, please include the following in your submission:

• First and last name

• Organization

• Title

• Address (City and State)

• Email address

• Phone number

If you require special accommodations, such as a sign language interpreter, use the contact information above. The listening session location is accessible to persons with disabilities.

Dated: February 28, 2019.
Bruce Summers,
Administrator, Agricultural Marketing Service.

[FR Doc. 2019-03912 Filed 3-4-19; 8:45 am]

BILLING CODE 3410-02-P